DEPARTMENT OF THE INTERIOR

National Park Service

[NPS-WASO-NAGPRA-NPS0036526; PPWOCRADN0-PCU00RP14.R50000]

Notice of Inventory Completion: Eastern California Museum, Independence, CA

AGENCY: National Park Service, Interior.

ACTION: Notice.

SUMMARY: In accordance with the Native American Graves Protection and Repatriation Act (NAGPRA), the Eastern California Museum (ECM) has completed an inventory of human remains and has determined that there is a cultural affiliation between the human remains and Indian Tribes or Native Hawaiian organizations in this notice. The human remains were removed from Inyo County, CA.

DATES: Repatriation of the human remains in this notice may occur on or after November 24, 2023.

ADDRESSES: Shawn E. Lum, Eastern California Museum, 155 Grant Street, P.O. Box 206, Independence, CA 93526, telephone (760) 878-0258, email ecmuseum@inyocounty.us.

SUPPLEMENTARY INFORMATION: This notice is published as part of the National Park Service's administrative responsibilities under NAGPRA. The determinations in this notice are the sole responsibility of Eastern California Museum. The National Park Service is not responsible for the determinations in this notice. Additional information on the determinations in this notice, including the results of consultation, can be found in the inventory or related records held by Eastern California Museum.

Description

Human remains representing, at minimum, one individual were removed from Inyo County, CA. The human remains were found on November 24, 1962, at an Indian campsite near Goose Lake and northeast of Independence, in the Owens Valley. These human remains (Accession #A1942/NL1/NL2) were loaned to ECM in 1968. In 2022, with donor permission, the loan was converted to a gift, with the understanding that ECM would work to respectfully repatriate the human remains.

Additional statement from Sean Scruggs: Theft, collections, and destruction of ancestral lands are the reasons repatriation by tribal people is necessary by people like myself, Sean Scruggs, Tribal Historical Preservation Officer for the Fort Independence Indian Reservation. The act of repatriation is honorable itself, much like that of the United States military when fallen soldiers are returned home from foreign lands. Through repatriation, tribal people work to restore traditional homelands by returning family members home to give them the peace and honor they so richly deserve.

Tribal people have no ceremony for re-burials. Native Americans did not collect and desecrate burial sites, they were left intact for the natural world as our Creator intended. The act of repatriation puts me, and others, at spiritual, emotional, and physical risk by attempting to return these family members where they belong. Entrusted not only with their physical remains, but their spirit as well—tribal people get only one chance help a person complete their journey home.

On May 1, 2023, a NAGPRA osteologist confirmed at least two of three facts that I “felt” prior to the assessment of the man I am choosing to care for. I connected with the individual and felt that he was a man around my age (40-50) and that he experienced something traumatic. He and I both share trauma in our lives. As such, my intuition tells me that he was a warrior and possibly a Chief among our people. The expert confirmed that the person is a male about 45 years old who had fire effects consistent with a cremation that was likely interrupted. Later, I had visions through this man's eyes as he went through the cremation whereby, I could feel the heat of the fire and see the flames of the fire through his eyes. I can feel his emotional pain and sorrow with visions of his wife and young daughter standing in the light of the fire as his body burned. Additionally, I felt that the cremation had either been stopped and or covered for fear of being discovered by settlers, making this event extremely traumatic and likely around the 1850's.

In Payahuunadü or the Land of Flowing Water (the Owens Valley), which is the place of our Creation, cremations and burial methods changed dramatically as a result of extermination, forced removal, creation of reservations, and assimilation. This extreme generational trauma and cultural disruption still creates dramatic shifts in the ability of our people to pass from this life to the next. Native Americans were not recognized as citizens until June 2, 1924. To me, the only rights that our ancestors have are those few afforded by NAGPRA which still doesn't recognize their basic right to rest in peace on their ancestral homes. The extraordinary efforts of Shawn Lum and the ECM staff demonstrate the very best of cooperation, care, and respect in helping my Tribe heal and step toward closure through repatriation using the NAGPRA process.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical.

Determinations

Pursuant to NAGPRA and its implementing regulations, and after consultation with the appropriate Indian Tribes and Native Hawaiian organizations, Eastern California Museum has determined that:

• The human remains described in this notice represent the physical remains of one individual of Native American ancestry.

• There is a relationship of shared group identity that can be reasonably traced between the human remains described in this notice and the Fort Independence Indian Community of Paiute Indians of the Fort Independence Reservation, California.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 24, 2023. If competing requests for repatriation are received, Eastern California Museum must determine the most appropriate requestor prior to repatriation. Requests for joint repatriation of the human remains are considered a single request and not competing requests. Eastern California Museum is responsible for sending a copy of this notice to the Indian Tribe identified in this notice.

Authority: Native American Graves Protection and Repatriation Act, 25 U.S.C. 3003, and the implementing regulations, 43 CFR 10.9, § 10.10, and § 10.14.

Dated: October 18, 2023.
Melanie O'Brien,
Manager, National NAGPRA Program.

[FR Doc. 2023-23543 Filed 10-24-23; 8:45 am]

BILLING CODE 4312-52-P